FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 4, 2016.

A. Federal Reserve Bank of St. Louis (David L. Hubbard, Senior Manager) P.O. Box 442, St. Louis, Missouri 63166-2034. Comments can also be sent electronically to Comments.applications@stls.frb.org:

1. Mary W. Harsh, Magnolia, Arkansas, individually and as trustee of the Mary W. Harsh Revocable Trust; Nina Marie Harsh Burns, Magnolia, Arkansas, individually and as trustee of the Molly Burns Nonexempt Trust, the Nina Marie (Molly) Harsh Burns Revocable Trust, the Mary W. Harsh 2005 Family Trust, the Mary W. Harsh 2002 Family Trust, the Robert Samuel Burns Exempt Trust, the Rebecca M. Burns Gosnell Exempt Trust, and the Mary Elizabeth Burns Anderson Exempt Trust; Amy H. Sixbey, Roland, Arkansas, individually and as trustee of the Amy Sixbey Nonexempt Trust, the Mary W. Harsh 2005 Family Trust, the Mary W. Harsh 2002 Family Trust, the Mary Elizabeth Sixbey Exempt Trust, and the Annie Alexander Sixbey Exempt Trust; Roxana Whitner, Hot Springs Village, Arkansas, as trustee of the Roxana Harsh Whitner Revocable Trust, the Roxana Whitner Nonexempt Trust, the Mary W. Harsh 2005 Family Trust, the Mary W. Harsh 2002 Family Trust, John Douglas Whittemore Exempt Trust, the Jessica Grayson Luther Exempt Trust, the Julia Roxana Kirk Exempt Trust, the Mary Jane Platt Exempt Trust, the Jessica Grayson Luther Revocable Trust, and the John Douglas Whittemore Revocable Trust; Robert L. Burns, Magnolia, Arkansas, individually and as trustee of the Robert L. Burns Revocable Trust; Pat Sixbey, Roland, Arkansas, individually and as trustee of the Mary Elizabeth Sixbey Trust, the Annie Alexander Sixbey Trust, and the Amy Harsh Sixbey 2009 Irrevocable Trust; Robert S. Burns, Magnolia, Arkansas, as trustee of the Robert Samuel Burns Revocable Trust, and the Bob and Molly Burns Family Irrevocable Trust; Mary Elizabeth Burns, trustee of the Mary Elizabeth Burns Revocable Trust and the Bob and Molly Burns Family Irrevocable Trust; and Rebecca M. Burns, trustee of the Rebecca M. Burns Revocable Trust, and the Bob and Molly Burns Family Irrevocable Trust, to collectively acquire an additional 0.72 percent of the shares and thereby retain control of more than 25 percent of Magnolia Banking Corporation, Magnolia, Arkansas, and thereby acquire Farmers Bank and Trust Company, Magnolia, Arkansas.

Board of Governors of the Federal Reserve System, July 14, 2016.
Michele Taylor Fennell,
Assistant Secretary of the Board.

[FR Doc. 2016-17022 Filed 7-18-16; 8:45 am]

BILLING CODE 6210-01-P